DEPARTMENT OF DEFENSE

Defense Logistics Agency

Privacy Act of 1974; Systems of Records

AGENCY: Defense Logistics Agency, DOD.

ACTION: Notice to alter a system of records.

SUMMARY: The Defense Logistics Agency proposes to alter a system of records notice in its inventory of record systems subject to the Privacy Act of 1974 (5 U.S.C. 552a), as amended. The alteration adds three new categories of individuals covered, a new categories of records being maintained, and three new routine uses.

DATES: This action will be effective without further notice on January 2, 2001 unless comments are received that would result in a contrary determination.

ADDRESSES: Send comments to the Privacy Act Officer, Headquarters, Defense Logistics Agency, ATTN: DSS-C, 8725 John J. Kingman Road, Suite 2533, Fort Belvior, VA 22060-6221.

FOR FURTHER INFORMATION CONTACT: Ms. Susan Salus at (703) 767-6183.

SUPPLEMENTARY INFORMATION: The Defense Logistics Agency notices for systems of records subject to the Privacy Act of 1974 (5 U.S.C. 552a), as amended, have been published in the Federal Register and are available from the address above.

The proposed system report, as required by 5 U.S.C. 552a(r) of the Privacy Act of 1974, as amended, was submitted on November 13, 2000, to the House Committee on Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: November 22, 2000.
L.M. Bynum,
Alternate OSD Federal Register Liaison Officer, Department of Defense.

S700.10 FO

System name:

Travel Record (October 4, 1994, 59 FR 50579).

Changes:

* * * * *

System Identifier:

Delete “FO” and replace it with “DSS.”

System Name:

Delete entry and replace with “Travel Input Record.”

System Location:

Delete the first sentence and replace with “Records are maintained at HQ Defense Logistics Agency (DLA) and at the DLA Primary Level Field Activities (PLFAs).”

Categories of Individuals covered by the system:

Delete entry and replace with “All DLA military members, civilian employees, and dependents who perform travel, Temporary Duty (TDY) or Permanent Change of Station (PCS); individuals of other DoD agencies serviced by DLA under an interservice support agreement; and public and private sector individuals traveling under invitational travel orders.”

Categories of Records in the System:

Delete and replace with: “Consists of name; logon identifiers; Social Security Number; work and home addresses; work and home telephone numbers; government and personal credit card account numbers and expiration dates; bank name and address, and banking data such as bank routing number, account number, and type of account; job title; security clearance level; order number; travel itinerary; planned leave; frequent flyer data; travel preferences; and claim data. The files may also include details of real estate transactions and dependent data.”

Authority for Maintenance of the System:

Delete entry and replace with “Chapter 57, 5 U.S.C., Travel, Transportation, and Subsistence; 10 U.S.C. 133, Under Secretary of Defense for Acquisition and Technology; and E.O. 9397 (SSN).”

Purpose:

Delete entry and replace with “Records are used in administering the travel program, managing and tracking funds, and accounting for employee status for pay and leave tracking purposes. Data is also used to determine that expenses relating to the sale or purchase of a residence for a Permanent change of Station are reasonable and customary for the locality of the transaction. Statistical data, with all personal identifiers removed, is used to assess trends, manage funds, and forecast future expenses.”

Routine uses of records maintained in the system, including categories of users and the purpose of such uses:

Add three new paragraphs as follows: “To banking establishments for the purpose of facilitating direct deposit and to confirm billing or expense data.

To Federal, State, and Local government agencies for taxing, audit, or oversight purposes.

To Government and private sector entities to provide for or facilitate transportation, lodging, relocation or related travel services.”

* * * * *

Safeguards:

Delete entry and replace with “Records are maintained in areas that are accessible only to individuals who must service the record in the performance of their official duties. Electronic records are password protected with access restricted to authorized users.”

* * * * *

Retention and Disposal:

Delete entry and replace with “Paper records are retained for 6 years and then destroyed. Electronic records are retained on line for 15 months and then removed to disk where they are retained for an additional 4 years and 9 months.”

* * * * *

* * * * *

Record Source Categories:

Insert “and the individual's supervisor” after the word “individual.”

* * * * *

S700.10 DSS

System name:

Travel Input Records.

System location:

Records are maintained at HQ Defense Logistics Agency (DLA) and at the DLA Primary Level Field Activities (PLFAs). Official mailing addresses are published as an appendix to DLA's compilation of systems of records notices.

Categories of individuals covered by the system:

All DLA military members, civilian employees, and dependents who perform travel, Temporary Duty (TDY) or Permanent Change of Station (PCS); individuals of other DoD agencies serviced by DLA under an interservice support agreement; and public and private sector individuals traveling under invitational travel orders.

Categories of records in the system:

Consists of name, Social Security Number, security clearance level, order number, travel itinerary, claim data, and financial details of real estate transactions.

Authority for maintenance of the system:

Chapter 57, 5 U.S.C., Travel, Transportation, and Subsistence; 10 U.S.C. 133, Under Secretary of Defense for Acquisition and Technology; and E.O. 9397 (SSN).

Purpose(s):

Records are used in administering the travel program, managing and tracking funds, and accounting for employee status for pay and leave tracking purposes.

Data is also used to determine that expenses relating to the sale or purchase of a residence for a Permanent change of Station are reasonable and customary for the locality of the transaction.

Statistical data, with all personal identifiers removed, is used to assess trends, manage funds, and forecast future expenses

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Federal agency or private sector organization employing the traveler for funds control, personnel administration, or program management purposes.

To banking establishments for the purpose of facilitating direct deposit and to confirm billing or expense data.

To Federal, State, and Local government agencies for taxing, audit, or oversight purposes.

To Government and private sector entities to provide for or facilitate transportation, lodging, relocation or related travel services.

The DoD ‘Blanket Routine Uses’ set forth at the beginning of DLA's compilation of systems of records notices apply to this record system.

Policies and practices for storing, retrieving, accessing, retaining, and disposing of records in the system:

Storage:

Records are maintained in both paper and electronic form.

Retrievability:

By name, Social Security Number or order number.

Safeguards:

Records are maintained in areas that are accessible only to individuals who must service the record in the performance of their official duties. Electronic records are password protected with access restricted to authorized users.

Retention and disposal:

Paper records are retained for 6 years and then destroyed. Electronic records are retained on line for 15 months and then removed to disk where they are retained for an additional 4 years and 9 months.

System manager(s) and address:

Headquarters Defense Logistics Agency Travel Coordinator, ATTN: DSS-B, 8725 John J. Kingman Road, Suite 2533, Fort Belvoir, VA 22060-6221, and Financial Liaison Offices of the DLA PLFA's. Official mailing addresses are published as an appendix to DLA's compilation of systems of records notices.

Notification procedures:

Individuals seeking to determine whether information about themselves is contained in this system of records should address inquiries to the Privacy Act Officer of the DLA activity sponsoring the travel. Official mailing addresses are published as an appendix to DLA's compilation of systems of records notices.

Individuals should provide full name and Social Security Number.

DLA employees and military members with direct access to the on-line database may query the database by providing their name and password.

To determine if records older than 15 months are contained within the electronic system, individuals should address a written inquiry to the Privacy Act Officer at HQ DLA, ATTN: DSS-C, 8725 John J. Kingman Road, Fort Belvoir, VA 22060-6221.

Record access procedures:

Individuals seeking access to records about themselves contained in this system of records should address written inquiries to the Privacy Act Officer of the DLA field activity sponsoring the travel. Official mailing addresses are published as an Appendix to DLA's compilation of systems of records notices.

Individuals should provide full name and Social Security Number. For access to electronic records created at HQ DLA within the past 15 months, DLA employees and military members with online access to the database may query the database by providing their name and password. For access to archived electronic records stored off-line, address written inquiries to the HQ DLA Privacy Act Officer, HQ DLA, ATTN: DSS-C, 8725 John J. Kingman Road, Suite 2533, Fort Belvoir, VA 22060-6221, providing name and Social Security Number.

Individuals who do not have access to the HQ DLA database should submit written inquiries to the HQ DLA Privacy Act Officer, HQ DLA, ATTN: DSS-C, 8725 John J. Kingman Road, Suite 2533, Fort Belvoir, VA 22060-6221, providing name and Social Security Number.

Contesting record procedures:

The DLA rules for accessing records, for contesting contents and appealing initial agency determinations are contained in DLA Regulation 5400.21, 32 CFR part 323, or may be obtained from the Privacy Act Officer, Headquarters, Defense Logistics Agency, ATTN: DSS-C, 8725 John J. Kingman Road, Suite 2533, Fort Belvoir, VA 22060-6221.

Record source categories:

Information is collected from the individual and the individual's supervisor, from the hiring activity's personnel office, and from travel and expense forms.

Exemptions claimed for the system:

None.

[FR Doc. 00-30475 Filed 11-30-00; 8:45 am]

BILLING CODE 5001-10-P